DEPARTMENT OF STATE

[Public Notice 4560]

Determinations Pursuant to Executive Order 13224 Relating to Jaish e-Mohammed and Lashkar e-Tayyiba

The Secretary of State, in consultation with the Secretary of the Treasury, the Attorney General, and the Secretary of Homeland Security, has amended the designation of Jaish e-Mohammed pursuant to Executive Order 13224 to add the following names as aliases:

Khuddam-ul-Islam

Khudamul Islam

Kuddam e Islami.

The Secretary of State, in consultation with the Secretary of the Treasury, the Attorney General, and the Secretary of Homeland Security, has amended the designation of Lashkar e-Tayyiba pursuant to Executive Order 13224 to add the following names as aliases:

al Mansoorian

al Mansooreen

Army of the Pure

Army of the Pure and Righteous.

Consistent with the determination in section 10 of Executive Order 13224 that “prior notice to persons determined to be subject to the Order who might have a constitutional presence in the United States would render ineffectual the blocking and other measures authorized in the Order because of the ability to transfer funds instantaneously”, no prior notice need be provided to any person subject to this determination who might have a constitutional presence in the United States, because to do so would render ineffectual the measures authorized in the Order.

Dated: December 16, 2003.
William P. Pope,
Acting Coordinator for Counterterrorism, Department of State.

[FR Doc. 03-31569 Filed 12-22-03; 5:00 pm]

BILLING CODE 4710-10-P